DEPARTMENT OF THE INTERIOR

National Park Service

[NPS-NERO-CEBE-25119; PPNECEBE00, PPMPSAS1Z.Y00000]

Notice of Public Meeting of the Cedar Creek and Belle Grove National Historical Park Advisory Commission

AGENCY: National Park Service, Interior.

ACTION: Meeting notice.

SUMMARY: The National Park Service (NPS) is hereby giving notice of a meeting of the Cedar Creek and Belle Grove National Historical Park Advisory Commission.

DATES: Wednesday, June 20, 2018, at 9:00 a.m. (EASTERN).

ADDRESSES: Warren County Government Center, 220 North Commerce Avenue, Front Royal, VA 22630.

FOR FURTHER INFORMATION CONTACT: Further information concerning the meeting may be obtained from Karen Beck-Herzog, Site Manager, Cedar Creek and Belle Grove National Historical Park, P.O. Box 700, Middletown, Virginia 22645, telephone (540) 868-9176, or visit the park website: http://www.nps.gov/cebe/parkmgmt/park-advisory-commission.htm.

SUPPLEMENTARY INFORMATION: The NPS is holding the meeting pursuant to the Federal Advisory Committee Act (5 U.S.C. Appendix 1-16). The Commission was designated by Congress to provide advice to the Secretary of the Interior on the preparation and implementation of the park's general management plan and to advise on land protection (16 U.S.C. 410iii-7). Individuals who are interested in the park, the implementation of the plan, or the business of the Commission are encouraged to attend the meetings. Interested members of the public may present, either orally or through written comments, information for the Commission to consider during the public meeting. Attendees and those wishing to provide comment are strongly encouraged to preregister through the contact information provided. Scheduling of public comments during the Commission meeting will be determined by the chairperson of the Commission.

Before including your address, telephone number, email address, or other personal identifying information in your comment, you should be aware that your entire comment—including your personal identifying information—may be made publicly available at any time. While you can ask us in your comment to withhold your personal identifying information from public view, we cannot guarantee that we will be able to do so.

Agenda: Topics to be discussed include: Visitor services and interpretation, directional and interpretive signage and visitor facilities, land protection planning, historic preservation, and natural resource protection.

Commission meetings consist of the following:

1. General Introductions

2. Review and Approval of Commission Meeting Notes

3. Reports and Discussions

4. Old Business

5. New Business

6. Closing Remarks

Authority: 16 U.S.C. 410iii-7; 5 U.S.C. Appendix 1-16.

Alma Ripps,
Chief, Office of Policy.

[FR Doc. 2018-11876 Filed 6-1-18; 8:45 am]

BILLING CODE 4312-52-P